DEPARTMENT OF STATE

[Public Notice 4205]

Determination Pursuant to Section 1(b) of Executive Order 13224 Relating to the Kurdistan Workers' Party (PKK)

Acting under the authority of section 1(b) of Executive Order 13224 of September 23, 2001, and in consultation with the Secretary of the Treasury and the Attorney General, I hereby amend the November 2, 2001 designation of the Kurdistan Workers' Party (PKK and other aliases) to add the following names as aliases of the PKK:

Kurdistan Freedom and Democracy Congress

Freedom and Democracy Congress of Kurdistan

KADEK

Consistent with the determination in section 10 of Executive Order 13224 that “prior notice to persons determined to be subject to the Order who might have a constitutional presence in the United States would render ineffectual the blocking and other measures authorized in the Order because of the ability to transfer funds instantaneously,” I determine that no prior notice need be provided to any person subject to this determination who might have a constitutional presence in the United States because to do so would render ineffectual the measures authorized in the Order.

This notice shall be published in the Federal Register.

Dated: December 3, 2002.
Colin L. Powell,
Secretary of State, Department of State.

[FR Doc. 02-31026 Filed 12-6-02; 8:45 am]

BILLING CODE 4710-10-P